DEPARTMENT OF AGRICULTURE

Forest Service

Availability of Appealable Decisions

AGENCY: Forest Service, USDA.

ACTION: Notice—Availability of appealable decisions; legal notice of availability for comment of decisions that may be appealable under 36 CFR part 215.

SUMMARY: Responsible Officials in the Southwestern Region will publish notices of availability for comment and notices of decisions that may be subject to administrative appeal under 36 CFR part 215. These notices will be published in the legal notice section of the newspapers listed in the Supplementary Information section of this notice. As provided in 36 CFR 215.5 and 215.9, such notice shall constitute legal evidence that the agency has given timely and constructive notice for comment and notice of decisions that may be subject to administrative appeal. Newspaper publication of notices of decisions is in addition to direct notice to those who have requested notice in writing and to those known to be interested in or affected by a specific decision.

DATES: Use of these newspapers for the purpose of publishing legal notices for comment and decisions that may be subject to appeal under 36 CFR part 215 shall begin January 25, 2000, and continue until further notice.

ADDRESSES: Southwestern Region, ATTN: Regional Appeals Coordinator, 517 Gold Avenue SW, Room 5432, Albuquerque, NM 87102.

FOR FURTHER INFORMATION CONTACT: Christina Gonzalez, 505-842-3219.

SUPPLEMENTARY INFORMATION: Responsible Officials in the Southwestern Region will give legal notice of decisions that may be subject to appeal under 36 CFR part 215 in the following newspapers which are listed by Forest Service administrative unit. Where more than one newspaper is listed for any unit, the first newspaper listed is the primary newspaper which shall be used to constitute legal evidence that the agency has given timely and constructive notice for comment and for decisions that may be subject to administrative appeal. As provided in 36 CFR 215.5, the time frame for appeal shall be based on the date of publication of a notice for decision in the primary newspaper.

Notice by Regional Forester of Availability for Comment and Decisions affecting New Mexico Forests: “Albuquerque Journal”, published daily in Albuquerque, Bernalillo County, New Mexico, for comment and decisions affecting National Forest System Lands in the State of New Mexico and for any decisions of Region-wide impact.

Notice by Regional Forester of Availability for Comment and Decisions affecting Arizona Forests: “The Arizona Republic” published daily in Phoenix, Maricopa County, Arizona, for comment and decisions affecting National Forest System lands in the State of Arizona and for any decisions of Region-wide impact.

Notice by Regional Forester of Availability for Comment and Decisions affecting National Grasslands in New Mexico, Oklahoma, and Texas; Kiowa National Grassland in Colfax, Harding, Mora and Union Counties, New Mexico: “Union County Leader”, published weekly on Wednesday in Clayton, Union County, New Mexico. Rita Blanca National Grassland in Cimarron County, Oklahoma: “Boise City News”, published weekly on Wednesday in Boise City, Cimarron County, Oklahoma. Rita Blanca National Grassland in Dallam County, Texas: “The Dalhart Texan”, published on Tuesday and Saturday in Dalhart, Dallam County, Texas. Black Kettle National Grassland in Roger Mills County, Oklahoma: “Cheyenne Star”, published weekly on Thursday in Cheyenne, Roger Mills County, Oklahoma. Black Kettle National Grassland in Hemphill County, Texas: “The Canadian Record”, published weekly on Thursday in Canadian, Hemphill County, Texas. McClellan Creek National Grassland in Gray County, Texas: “The Pampa News”, published on Friday and Sunday in Pampa, Gray County, Texas.

Arizona National Forests

Apache-Sitgreaves National Forests

Notice by Forest Supervisor of Availability for Comment and Decisions: “The White Mountain Independent”, published Tuesday and Friday in Show Low and Navajo County, Arizona.

Notice by District Ranger of Availability for Comment and Decisions: Alpine District: “The White Mountain Independent”, published Tuesday and Friday in Show Low and Navajo County, Arizona. Chevelon District: “The White Mountain Independent'', published Tuesday and Friday in Show Low and Navajo County, Arizona. Clifton District: “Copper Era”, published weekly on Wednesday in Clifton, Greenlee County, Arizona. Heber District: “The White Mountain Independent‘, published Tuesday and Friday in Show Low and Navajo County, Arizona. Lakeside District: “The White Mountain Independent”, published Tuesday and Friday in Show Low and Navjo County, Arizona. Springerville District: “The White Mountain Independent”, published Tuesday and Friday in Show Low and Navajo County, Arizona.

Coconino National Forest

Notice by Forest Supervisor of Availability for Comment and Decisions: “Arizona Daily Sun”, published daily, in Flagstaff, Coconino County, Arizona.

Notice by District Ranger of Availability for Comment and Decisions: Beaver Creek District: “Arizona Daily Sun”, published daily, in Flagstaff, Coconino County, Arizona. Blue Ridge District: “Arizona Daily Sun”, published daily, in Flagstaff, Coconino County, Arizona. Peaks District: “Arizona Daily Sun”, published daily, in Flagstaff, Coconino County, Arizona. Long Valley District: “Arizona Daily Sun”, published daily, in Flagstaff, Coconino County, Arizona. Mormon Lake District: “Arizona Daily Sun”, published daily, in Flagstaff, Coconino County, Arizona. Sedona District: “Red Rock News”, published Wednesday and Friday in Sedona, Coconino County, Arizona.

Coronado National Forest

Notice by Forest Supervisor of Availability for Comment and Decisions: “The Arizona Daily Star”, published daily, in Tucson, Pima County, Arizona.

Notice by District Ranger of Availability for Comment and Decisions: Douglas District: “Daily Dispatch”, published Tuesday-Friday, and Sunday in Douglas, Cochise County, Arizona. Nogales District: “Nogales International”, published on Tuesday and Friday in Nogales, Santa Cruz County, Arizona. Sierra Vista District: “Sierra Vista Herald”, published Sunday-Friday, in Sierra Vista, Cochise County, Arizona. Safford District: “Eastern Arizona Courier”, published weekly on Wednesday, in Safford, Graham County, Arizona. Santa Catalina District: “The Arizona Daily Star”, published daily, in Tucson, Pima County, Arizona.

Kaibab National Forest

Notice by Forest Supervisor of Availability for Comment and Decisions: “Arizona Daily Sun”, published daily, in Flagstaff, Coconino County, Arizona.

Notice by District Ranger of Availability for Comment and Decisions: North Kaibab District: “Arizona Daily Sun”, published daily, in Flagstaff, Coconino County, Arizona. Tusayan District: “Arizona Daily Sun”, published daily, in Flagstaff, Coconino County, Arizona. Williams District: “Arizona Daily Sun”, published daily, in Flagstaff, Coconino County, Arizona.

Prescott National Forest

Notice by Forest Supervisor of Availability for Comment and Decisions: “Prescott Courier”, published daily in Prescott, Yavapai County, Arizona.

Notice by District Ranger of Availability for Comment and Decisions: Bradshaw District: “Prescott Courier”, published daily in Prescott, Yavapai County, Arizona. Chino Valley District: “Prescott Courier”, published daily in Prescott, Yavapai County, Arizona. Verde District: “Prescott Courier”, published daily in Prescott, Yavapai County, Arizona.

Tonto National Forest

Notice by Forest Supervisor of Availability for Comment and Decisions: “Mesa Tribune”, published daily in Mesa, Maricopa County, Arizona.

Notice by District Ranger of Availability for Comment and Decisions: Cave Creek District: “Foothills Sentinel”, published weekly on Wednesday in Cave Creek, Maricopa County, Arizona. Globe District: “Arizona Silver Belt”, published weekly on Thursday in Globe, Gila County, Arizona. Mesa District: “Mesa Tribune”, published daily in Mesa, Maricopa County, Arizona. Payson District: “Payson Roundup”, published weekly on Friday in Payson, Gila County, Arizona. Pleasant Valley District: “Payson Roundup”, published weekly on Friday in Payson, Gila County, Arizona. Tonto Basin District: “Payson Roundup”, published weekly on Friday in Payson, Gila County, Arizona.

New Mexico National Forests

Carson National Forest

Notice by Forest Supervisor of Availability for Comment and Decisions: “The Taos News”, published weekly on Thursday in Taos, Taos County, New Mexico.

Notice by District Ranger of Availability for Comment and Decisions: Canjilon District: “Rio Grande Sun”, published Wednesday in Espanola, Rio Arriba County, New Mexico. El Rito District: “Rio Grande Sun”, published Wednesday in Espanola, Rio Arriba County, New Mexico. Jicarilla District: “Farmington Daily Times”, published daily in Farmington, San Juan County, New Mexico. Camino Real District: “The Taos News”, published weekly on Thursday in Taos, Taos County, New Mexico. Tres Piedras District: “The Taos News”, published weekly on Thursday in Taos, Taos County, New Mexico. Questa District: “The Taos News”, published weekly on Thursday in Taos, Taos County, New Mexico.

Cibola National Forest

Notice by Forest Supervisor of Availability for Comment and Decisions affecting lands in New Mexico, except the National Grasslands: “Albuquerque Journal”, published daily in Albuquerque, Bernalillo County, New Mexico.

Notice by Forest Supervisor of Availability for Comment and Decisions affecting National Grasslands in New Mexico, Texas and Oklahoma: Kiowa National Grassland in Colfax, Harding, Mora and Union Counties, New Mexico: “Union County Leader”, published weekly on Wednesday in Clayton, Union County, New Mexico. Rita Blanca National Grassland in Cimarron County, Oklahoma: “Boise City News”, published weekly on Wednesday in Boise City, Cimarron County, Oklahoma. Rita Blanca National Grassland in Dallam County, Texas: “Dalhart Texan”, published on Tuesday and Saturday in Dalhart, Dallam County, Texas. Black Kettle National Grassland, Roger Mills County, Oklahoma: “Cheyenne Star”, published weekly on Thursday in Cheyenne, Roger Mills County, Oklahoma. Black Kettle National Grassland, Hemphill County, Texas: “The Canadian Record”, published weekly on Thursday in Canadian, Hemphill County, Texas. McClellan Creek National Grassland, Gray County, Texas: “The Pampa News”, published on Friday and Sunday in Pampa, Gray County, Texas.

Notice by District Ranger of Availability for Comment and Decisions: Mt. Taylor District: “Cibola County Beacon”, published on Wednesday and Friday in Grants, Cibola County, New Mexico. Magdalena District: “Defensor-Chieftain”, published Wednesday and Saturday in Socorro, Socorro County, New Mexico. Mountainair District: “Estancia Valley Citizen”, published weekly on Friday in Estancia, Torrance County, New Mexico. Sandia District: “Albuquerque Journal”, published daily in Albuquerque, Bernalillo County, New Mexico. Kiowa National Grassland: “Union County Leader”, published weekly on Wednesday in Clayton, Union County, New Mexico. Rita Blanca National Grassland: “Boise City News”, published weekly on Wednesday in Boise City, Cimarron County, Oklahoma. Black Kettle National Grassland: “Cheyenne Star”, published weekly on Thursday in Cheyenne, Roger Mills County, Oklahoma. Black Kettle National Grassland: “The Canadian Record”, published weekly on Thursday in Canadian, Hemphill County, Texas. McClellan Creek National Grassland: “The Pampa News”, published on Friday and Sunday in Pampa, Gray County, Texas.

Gila National Forest

Notice by Forest Supervisor of Availability for Comment and Decisions: “Silver City Daily Press”, published Monday-Saturday in Silver City, Grant County, New Mexico.

Notice by District Ranger of Availability for Comment and Decision: Black Range District: “The Herald”, published on Tuesday, in Truth or Consequences, Sierra County, New Mexico. Quemado District: “Silver City Daily Press”, published Monday-Saturday in Silver City, Grant County, New Mexico. Reserve District: “Silver City Daily Press”, published Monday-Saturday in Silver City, Grant County, New Mexico. Glenwood District: “Silver City Daily Press”, published Monday-Saturday in Silver City, Grant County, New Mexico. Silver City District: “Silver City Daily Press”, published Monday-Saturday in Silver City, Grant County, New Mexico. Wilderness District: “Silver City Daily Press‘, published Monday-Saturday in Silver City, Grant County, New Mexico.

Lincoln National Forest

Notice by Forest Supervisor of Availability for Comment and Decisions: “Alamagordo Daily News”, published daily in Alamogordo, Otero County, New Mexico.

Notice by District Ranger of Availability for Comment and Decisions: Sacramento District: “Alamogordo Daily News”, published daily in Alamogordo, Otero County, New Mexico. Guadalupe District: “Carlsbad Current Argus”, published daily except Saturday, in Carlsbad, Eddy County, New Mexico. Smokey Bear District: “Ruidoso News”, published Monday and Thursday in Ruidoso, Lincoln County, New Mexico.

Sante Fe National Forest

Notice by Forest Supervisor of Availability for Comment and Decisions: “Albuquerque Journal”, published daily in Alburquerque, Bernalillo County, New Mexico.

Notice by District Ranger of Availability for Comment and Decisions: Coyote District: “Albuquerque Journal”, published daily in Albuquerque, Bernalillo County, New Mexico, Cuba District: “Albuquerque Journal”, published daily in Albuquerque, Bernalillo County, New Mexico. Espanola District: “Albuquerque Journal”, published daily in Albuquerque, Bernalillo County, New Mexico. Jemez District: “Albuquerque Journal”, published daily in Albuquerque, Bernalillo County, New Mexico. Pecos-Las Vegas District: “Albuquerque Journal”, published daily in Albuquerque, Bernalillo County, New Mexico.

Dated: January 11, 2000.
James T. Gladen,
Deputy Regional Forester, Resources.

[FR Doc. 00-1671 Filed 1-24-00; 8:45 am]

BILLING CODE 3410-11-M